DEPARTMENT OF HEALTH AND HUMAN SERVICES

National Institutes of Health

Center for Scientific Review; Amended Notice of Meeting

Notice is hereby given of a change in the meeting of the Language and Communication Study Section, February 15, 2007, 7:30 a.m. to February 15, 2007, 6:30 p.m., Crowne Plaza Union Square, 480 Sutter Street, San Francisco, CA 94108 which was published in the Federal Register on December 14, 2006, 71 FR 75266-75268.

The meeting will be held February 15, 2007, 8 a.m. to February 16, 2007, 5 p.m. The meeting location remains the same. The meeting is closed to the public.

Dated: December 21, 2006.
Anna Snouffer,
Acting Director, Office of Federal Advisory Committee Policy.

[FR Doc. 06-9954 Filed 12-29-06; 8:45 am]

BILLING CODE 4140-01-M